DEPARTMENT OF AGRICULTURE

Food Safety and Inspection Service

[Docket No. FSIS-2016-0045]

Codex Alimentarius Commission: Meeting of the Codex Committee on Fats and Oils

AGENCY: Office of the Deputy Under Secretary for Food Safety, USDA.

ACTION: Notice of public meeting and request for comments.

SUMMARY: The Office of the Deputy Under Secretary for Food Safety, U.S. Department of Agriculture (USDA), and the Food and Drug Administration (FDA), Center for Food Safety and Applied Nutrition (CFSAN) are sponsoring a public meeting on January 24, 2017. The objective of the public meeting is to provide information and receive public comments on agenda items and draft United States (U.S.) positions that will be discussed at the 25th Session of the Codex Committee on Fats and Oils (CCFO) of the Codex Alimentarius Commission (Codex), taking place in Kuala Lumpur, Malaysia, February 27-March 3, 2017. The Deputy Under Secretary for Food Safety and the FDA recognize the importance of providing interested parties the opportunity to obtain background information on the 25th Session of the CCFO and to address items on the agenda.

DATES: The public meeting is scheduled for Tuesday, January 24, 2017 from 2:00 p.m.-4:00 p.m.

ADDRESSES: The public meeting will take place at the Harvey Wiley Building, United States Food and Drug Administration, CFSAN, 5001 Campus Drive, Room Number 1A-001, College Park, MD 20740.

Documents related to the 25th Session of the CCFO will be accessible via the Internet at the following address: http://www.codexalimentarius.org/meetings-reports/en/.

Paul South, U.S. Delegate to the 25th Session of the CCFO, invites U.S. interested parties to submit their comments electronically to the following email address: Paul.South@fda.hhs.gov.

Call-in-Number: If you wish to participate in the public meeting for the 25th Session of the CCFO by conference call, please use the call-in-number and participant code listed below.

Call-in-Number: 1-888-844-9904.

The participant code will be posted on the following Web page below: http://www.fsis.usda.gov/wps/portal/fsis/topics/international-affairs/us-codex-alimentarius/public-meetings.

FOR FURTHER INFORMATION ABOUT THE 25th SESSION OF THE CCFO CONTACT: Paul South, Review Chemist, Office of Food Safety, Center for Food Safety and Applied Nutrition, U.S. Food and Drug Administration, 5100 Paint Branch Parkway, College Park, MD 20740, Telephone: (240) 402-1640, Fax: (301) 436-2632, Email: Paul.South@fda.hhs.gov.

FOR FURTHER INFORMATION ABOUT THE PUBLIC MEETING CONTACT: Marie Maratos, U.S. Codex Office, 1400 Independence Avenue SW., Room 4861, Washington, DC 20250, Telephone: (202) 205-7760, Fax: (202) 720-3157, Email: Marie.Maratos@fsis.usda.gov.

SUPPLEMENTARY INFORMATION:

Background

The Codex was established in 1963 by two United Nations organizations, the Food and Agriculture Organization and the World Health Organization. Through adoption of food standards, codes of practice, and other guidelines developed by its committees, and by promoting their adoption and implementation by governments, the Codex seeks to protect the health of consumers and ensure that fair practices are used in the food trade.

The CCFO is responsible for elaborating worldwide standards for fats and oils of animal, vegetable and marine origin including margarine and olive oil. The Committee is hosted by Malaysia.

Issues To Be Discussed at the Public Meeting

The following items on the Agenda for the 25th Session of the CCFO will be discussed during the public meeting:

• Matters referred by the Codex Alimentarius Commission and other Subsidiary Bodies;

• Activities of International Organizations relevant to the Work of the CCFO;

• Proposed draft Standard for Fish Oils and Proposed draft Revision to the Standard for Olive Oils and Olive Pomace Oils (CODEX STAN 33-1981): Revision of the Limit for Campesterol;

• Proposed draft revision to the Standard for Named Vegetable Oils (CODEX STAN 210-1999): Addition of Palm Oil with High Oleic Acid (OxG);

• Proposed draft revision to the Standard for Named Vegetable Oils (CODEX STAN 210-1999): Revision of Fatty Acid Composition and Other Quality Factors of Peanut Oil;

• Proposals for the transfer of provisions, other than those in Table 3 and Table 4, from the Appendix into the main body of the Standard for Named Vegetable Oils (CODEX STAN 210-1999);

• Review of the List of Acceptable Previous Cargoes (Appendix II to RCP 36-1987);

• Discussion Paper on the Revision of Limits of Oleic and Linoleic Acids in Sunflower seed Oils in the Standard for Named Vegetable Oils (CODEX STAN 210-1999);

• Discussion Paper on the Inclusion of Provisions for Walnut Oil, Almond Oil, Hazelnut Oil, Pistachio Oil, Flaxseed Oil, and Avocado Oil in the Standard for Named Vegetable Oils (CODEX STAN 210-1999);

• Discussion Paper on the Replacement of Acid Value with Free Fatty Acids for Virgin Palm Oils in the Standard for Named Vegetable Oils (CODEX STAN 210-1999);

• Discussion Paper on the Inclusion of Quality Parameters for Crude Rice Bran Oil in the Standard for Named Vegetable Oils (CODEX STAN 210-1999);

• Discussion Paper on the Inclusion of Unrefined Edible Tallow in the Standard for Named Animal Fats (CODEX STAN 211-1999); and

• Other business and future work.

Each issue listed will be fully described in documents distributed, or to be distributed, by the Secretariat before to the Meeting. Members of the public may access or request copies of these documents (see ADDRESSES).

Public Meeting

At the January 24, 2017 public meeting, draft U.S. positions on the agenda items will be described and discussed. Attendees will have the opportunity to pose questions and offer comments. Written comments may be offered at the meeting or sent to the U.S. Delegate for the 25th Session of CCFO, Paul South (see ADDRESSES). Written comments should state that they relate to activities of the 25th Session of the CCFO.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410, Fax: (202) 690-7442, Email: program.intake@usda.gov.

Persons with disabilities who require alternative means for communication (Braille, large print, audiotape, etc.), should contact USDA's TARGET Center at (202) 720-2600 (voice and TDD).

Done at Washington, DC, on December 13, 2016.
Paulo Almeida,
Acting U.S. Manager for Codex Alimentarius.

[FR Doc. 2016-30600 Filed 12-19-16; 8:45 am]

BILLING CODE 3410-DM-P